DEPARTMENT OF ENERGY

Federal Energy Regulatory Commission

Combined Notice of Filings #1

Take notice that the Commission received the following electric rate filings:

Docket Numbers: ER15-522-003.

Applicants: Arizona Public Service Company.

Description: Compliance filing: Market Based Rate Tariff Compliance Filing to be effective 2/2/2015.

Filed Date: 12/3/15.

Accession Number: 20151203-5057.

Comments Due: 5 p.m. ET 12/24/15.

Docket Numbers: ER15-2376-002; ER10-2020-003; ER10-2018-004; ER10-2019-005.

Applicants: Energy Power Investment Company, LLC, EPP Renewable Energy, LLC, EPP New Jersey Biogas, LLC, EPP New Jersey Solar, LLC.

Description: Notice of Change in Status of the EPP Sellers.

Filed Date: 12/2/15.

Accession Number: 20151202-5245.

Comments Due: 5 p.m. ET 12/23/15.

Docket Numbers: ER15-2728-002.

Applicants: Maricopa West Solar PV, LLC.

Description: Tariff Amendment: Amdmt to Pending Tariff Filing—Maricopa Removal Affiliate Waiver 120215 to be effective 11/1/2015.

Filed Date: 12/2/15.

Accession Number: 20151202-5171.

Comments Due: 5 p.m. ET 12/23/15.

Docket Numbers: ER16-160-001.

Applicants: New-Indy Ontario LLC.

Description: Tariff Amendment: Amendment to MBR to be effective 1/1/2016.

Filed Date: 12/3/15.

Accession Number: 20151203-5033.

Comments Due: 5 p.m. ET 12/17/15.

Docket Numbers: ER16-161-001.

Applicants: New-Indy Oxnard LLC.

Description: Tariff Amendment: Amendment to MBR to be effective 1/1/2016.

Filed Date: 12/3/15.

Accession Number: 20151203-5036.

Comments Due: 5 p.m. ET 12/17/15.

Docket Numbers: ER16-452-001.

Applicants: RE Tranquillity LLC.

Description: Tariff Amendment: Amendment to Application and Initial Baseline Tariff Filing to be effective 12/3/2015.

Filed Date: 12/3/15.

Accession Number: 20151203-5095.

Comments Due: 5 p.m. ET 12/24/15.

Docket Numbers: ER16-454-000.

Applicants: Seward Generation, LLC.

Description: Baseline eTariff Filing: Seward Generation, LLC Market Based Rate Tariff to be effective 1/1/2016.

Filed Date: 12/3/15.

Accession Number: 20151203-5000.

Comments Due: 5 p.m. ET 12/24/15.

Docket Numbers: ER16-455-000.

Applicants: PacifiCorp.

Description: PacifiCorp submits Notice of Cancellation of multiple Inactive Rate Schedules and Service Agreements.

Filed Date: 12/2/15.

Accession Number: 20151202-5243.

Comments Due: 5 p.m. ET 12/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2015.
Nathaniel J. Davis, Sr.,
Deputy Secretary.

[FR Doc. 2015-30958 Filed 12-8-15; 8:45 am]

BILLING CODE 6717-01-P